DEPARTMENT OF LABOR

Occupational Safety and Health Administration

[Docket No. OSHA-2013-0012]

Modification to the List of Appropriate NRTL Program Test Standards and the Scope of Recognition of Several NRTLs

AGENCY: Occupational Safety and Health Administration (OSHA), Labor.

ACTION: Notice.

SUMMARY: In this notice, OSHA announces the final decision to: delete test standards from the Nationally Recognized Testing Laboratories (NRTL) Program's list of appropriate test standards; and modify the scope of recognition of several NRTLs.

DATES: The actions contained in this notice will become effective on February 3, 2026.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, telephone: (202) 693-1911 or email: robinson.kevin@dol.gov.

SUPPLEMENTARY INFORMATION:

I. Background

The NRTL Program recognizes organizations that provide product-safety testing and certification services to manufacturers. These organizations perform testing and certification for purposes of the program, to U.S. consensus-based product-safety test standards. The products covered by the NRTL Program consist of those items for which OSHA safety standards require “certification” by a NRTL. The requirements affect electrical products and 36 other types of products. OSHA does not develop or issue these test standards, but generally relies on standards development organizations (SDOs), which develop and maintain the standards using a method that provides for input and consideration of views of industry groups, experts, users, consumers, governmental authorities, and others having broad experience in the safety field involved.

A. Deletion and Replacement of Test Standards

The NRTL Program regulations require that appropriate test standards be maintained and current (29 CFR 1910.7(c)). A test standard withdrawn by an SDO is no longer considered an appropriate test standard (CPL 01-00-004, NRTL Program Policies, Procedures and Guidelines Directive (NRTL Program Directive), Ch. 2.IX.C.1). It is OSHA's policy to remove recognition of withdrawn test standards by issuing a notice in the Federal Register for all NRTLs recognized for the withdrawn test standards (Id.). However, SDOs frequently will designate a replacement standard for withdrawn standards. OSHA will recognize a NRTL for an appropriate replacement test standard if the NRTL has the requisite testing and evaluation capability for the replacement test standard (NRTL Program Directive, Ch. 2.IX.C.2).

One method that NRTLs may use to show such capability involves an analysis to determine whether any testing and evaluation requirements of existing test standards in a NRTL's scope are comparable (i.e., are completely or substantially identical) to the requirements in the replacement test standard (NRTL Program Directive, Ch. 2.IX.C.3). If OSHA's analysis shows the replacement test standard does not require additional or different technical capability than an existing test standard(s), and the replacement test standard is comparable to the existing test standard(s), then OSHA can add the replacement test standard to affected NRTLs' scope of recognition. If OSHA's analysis shows the replacement test standard requires an additional or different technical capability, or the replacement test standard is not comparable to any existing test standards, each affected NRTL seeking to have OSHA add the replacement test standard to the NRTL's scope of recognition must provide information to OSHA that demonstrates technical capability (NRTL Program Directive, Ch. 2.IX.D).

B. Other Reasons for Removal of Test Standards From the NRTL List of Appropriate Test Standards

OSHA may choose to remove a test standard from the NRTL list of appropriate test standards based on a review by NRTL Program staff to determine if the test standards conform to the definition of an appropriate test standard in NRTL Program regulations and policy. There are several reasons for removing a test standard based on this review. First, a document that provides the methodology for a single test is a test method rather than an appropriate test standard (29 CFR 1910.7(c)). A test standard must specify the safety requirements for a specific type of product(s) (NRTL Program Directive, Ch. 2.VIII.C.1). A test method, however, is a specified technical procedure for performing a test. As such, a test method is not an appropriate test standard. While a NRTL may use a test method to determine if certain safety requirements are met, a test method is not itself a safety requirement for a specific product category.

Second, a document that focuses primarily on usage, installation, or maintenance requirements, and not safety requirements (i.e., features, parts, capabilities, usage limitations, or installation requirements that would create a potential hazard in operating the equipment if not properly used), would also not be considered an appropriate test standard (NRTL Program Directive, Ch. 2.VIII.C.1). In some cases, however, a document may also provide safety test specifications in addition to usage, installation, and maintenance requirements. In such cases, the document would be retained as an appropriate test standard based on the safety test specifications.

Finally, a document may not be considered an appropriate test standard if the document covers products for which OSHA does not require testing and certification (NRTL Program Directive, Ch. 2.VIII.C.2). Similarly, a document that covers electrical product components would not be considered an appropriate test standard. These documents apply to types of components that have limitation(s) or condition(s) on their use, which are not appropriate for use as end-use products. These documents also specify that these types of components are for use only as part of an end-use product. NRTLs, however, evaluate such components only in the context of evaluating whether end-use products requiring NRTL approval are safe for use in the workplace. Accordingly, as a matter of policy, OSHA considers that documents covering such components are not appropriate test standards under the NRTL Program. OSHA notes, however, that it is not deleting from NRTLs' scope of recognition any test standards covering end-use products that contain such components.

In addition, OSHA notes that, to conform to a test standard covering an end-use product, a NRTL must still determine that the components in the product comply with the components' specific test standards. In making this determination, NRTLs may (within the confines of the requirements of Annex B, Section 7.4 G and H of the NRTL Program Policies, Procedures, and Guidelines, OSHA Instruction CPL 01-00-004 (Oct. 1, 2019) (the NRTL Program Directive, available at https://www.osha.gov/sites/default/files/enforcement/directives/CPL_01-00-004.pdf)) test the components themselves or accept the testing of a qualified testing organization that a given component conforms to the particular test standard. OSHA reviews each NRTL's procedures to determine which approach the NRTL will use to address components and reviews the end-use product testing to verify that the NRTL appropriately addresses that product's components.

II. Summary of Proposed Actions

In a September 12, 2025 Federal Register notice (90 FR 44242, available at www.regulations.gov under Docket ID OSHA-2013-0012-0032), OSHA proposed to delete 16 test standards from the NRTL Program's List of Appropriate Test Standards because they were all withdrawn by the SDO that issued them. Moreover, a replacement test standard (UL 121201, Nonincendive Electrical Equipment for Use in Class I and II, Division 2 and Class III, Divisions 1 and 2 Hazardous (Classified) Locations) was designated for one of the test standards OSHA proposed to delete from the List of Appropriate Test Standards (ISA 12.12.01, Nonincendive Electrical Equipment for Use in Class I and II, Division 2 and Class III, Divisions 1 and 2 Hazardous (Classified) Locations). UL 121201 is already contained in the NRTL Program's List of Appropriate Test Standards. Therefore, OSHA did not propose to incorporate that replacement test standard into the List of Appropriate Test Standards.

OSHA additionally proposed to remove test standards from the scopes of recognition of several NRTLs and to add to the scope of recognition of one of these NRTLs, QPS Evaluation Services Inc. (QPS), a replacement test standard (UL 121201). OSHA had previously added UL 121201 into the scopes of recognition for several NRTLs and therefore did not propose to add UL 121201 into the scopes of recognition of these NRTLs. For more information on OSHA's prior actions in adding UL 121201 to the scopes of recognition of these NRTLs, please see the relevant Federal Register notices granting these NRTLs' applications for expansion of recognition: 86 FR 45765 (August 16, 2021), SGS North America, Inc.; 87 FR 12737 (March 7, 2022), UL LLC; 87 FR 51156 (August 19, 2022), Intertek Testing Services NA, Inc.; 87 FR 51154 (August 19, 2022), FM Approvals; and 87 FR 51155 (August 19, 2022), Eurofins Electrical and Electronic Testing NA, Inc. a/k/a MET Laboratories, Inc.; and 87 FR 51157 (August 19, 2022), CSA Group Testing & Certification Inc.

The September 12, 2025 Federal Register notice requested public comment on the proposal; however, no comments were received in response. Therefore, as will be explained below, OSHA is adopting, without modification, the proposed decision to delete several withdrawn test standards from the NRTL Program's List of Appropriate Test Standards and to modify the scope of recognition of several NRTLs.

III. Final Decision To Remove Test Standards From the NRTL Program's List of Appropriate Test Standards

In this notice, OSHA announces the final decision to delete several withdrawn test standards from the NRTL Program's List of Appropriate Test Standards. These final actions are detailed below in Table 1. Additionally, Table 1 lists the replacement test standard that OSHA has already incorporated into the NRTL Program's List of Appropriate Test Standards (for informational purposes only).

Table 1—Test Standards OSHA Is Deleting From NRTL Program's List of Appropriate Test Standards
Deleted test standard | Test standard title | Reason for deletion | Replacement standard
ISA 12.12.01 | Nonincendive Electrical Equipment for Use in Class I and II, Division 2 and Class III, Divisions 1 and 2 Hazardous (Classified) Locations | Withdrawn | UL 121201 Nonincendive Electrical Equipment for Use in Class I and II, Division 2 and Class III, Divisions 1 and 2 Hazardous (Classified) Locations.
ISA 60079-0 | Explosive Atmospheres—Part 0: Equipment—General Requirements | Withdrawn | None.
ISA 60079-1 | Explosive Atmospheres—Part 1: Equipment Protection by Flameproof Enclosures “d” | Withdrawn | None.
ISA 60079-6 | Explosive Atmospheres—Part 6: Equipment Protection by Oil Immersion “o” | Withdrawn | None.
ISA 60079-7 | Explosive Atmospheres—Part 7: Equipment Protection by Increased Safety “e” | Withdrawn | None.
ISA 60079-11 | Explosive Atmospheres—Part 11: Equipment Protection by Intrinsic Safety “i” | Withdrawn | None.
ISA 60079-15 | Explosive Atmospheres—Part 15: Equipment Protection by Type of Protection “n” | Withdrawn | None.
ISA 60079-25 | Standard for Explosive Atmospheres—Part 25: Intrinsically Safe Electrical Systems | Withdrawn | None.
ISA 60079-28 | Explosive Atmospheres—Part 28: Protection of Equipment and Transmission Systems Using Optical Radiation | Withdrawn | None.
ISA 60079-31 | Explosive Atmospheres—Part 31: Equipment Dust Ignition Protection by Enclosure “t” | Withdrawn | None.
ISA 61241-0 | Electrical Apparatus for Use in Zone 20, Zone 21 and Zone 22 Hazardous (Classified) Locations—General Requirements | Withdrawn | None.
ISA 61241-1 | Electrical Apparatus for Use in Zone 21 and Zone 22 Hazardous (Classified) Locations—Protection by Enclosures “tD” | Withdrawn | None.
ISA 61241-2 | Electrical Apparatus for Use in Zone 21 and Zone 22 Hazardous (Classified) Locations—Protection by Pressurization “pD” | Withdrawn | None.
ISA 61241-11 | Electrical Apparatus for Use in Zone 20, Zone 21 and Zone 22 Hazardous (Classified) Locations—Protection by Intrinsic Safety “iD” | Withdrawn | None.
ISA 61241-18 | Electrical Apparatus for Use in Zone 20, Zone 21 and Zone 22 Hazardous (Classified) Locations—Protection by Encapsulation “mD” | Withdrawn | None.
UL 244A | Solid-State Controls for Appliances | Withdrawn | None.

IV. Final Decision To Modify Affected NRTLs' Scope of Recognition

In this notice, OSHA announces the final decision to: remove test standards (those listed in Table 1, above) from the scopes of recognition of several NRTLs; and to add UL 121201 to the scope of recognition of QPS. The tables in this section (Table 2 through Table 9) list, for each affected NRTL, the test standard(s) that OSHA is removing from the scope of recognition of the NRTL and, for QPS, the addition of UL 121201 to its scope of recognition. Where relevant, Table 2 through Table 9 indicate, for informational purposes, where OSHA had previously added UL 121201 into the scopes of recognition of each affected NRTL.

Table 2—Test Standards OSHA Is Removing From the Scope of Recognition of CSA Group Testing & Certification Inc.
Test standard removed | Reason for removal | Replacement test standard
ISA 12.12.01 | Withdrawn | UL 121201 Nonincendive Electrical Equipment for Use in Class I and II, Division 2 and Class III, Divisions 1 and 2 Hazardous (Classified) Locations ¹.
ISA 60079-11 | Withdrawn | None.
ISA 60079-15 | Withdrawn | None.
ISA 60079-28 | Withdrawn | None.
ISA 60079-31 | Withdrawn | None.
ISA 61241-0 | Withdrawn | None.
ISA 61241-1 | Withdrawn | None.
ISA 61241-2 | Withdrawn | None.
ISA 61241-11 | Withdrawn | None.
ISA 61241-18 | Withdrawn | None.
UL 244A | Withdrawn | None.
¹ Informational only—replacement standard is already in the NRTL's scope.

Table 3—Test Standards OSHA Is Removing From/Adding to to the Scope Recognition of QPS Evaluation Services Inc.
Test standard removed | Reason for removal | Replacement test standard
ISA 12.12.01 | Withdrawn | UL 121201 Nonincendive Electrical Equipment for Use in Class I and II, Division 2 and Class III, Divisions 1 and 2 Hazardous (Classified) Locations.

Table 4—Test Standards OSHA Is Removing From the Scope of Recognition of Eurofins Electrical and Electronic Testing NA, Inc. a/k/a MET Laboratories, Inc.
Test standard removed | Reason for removal | Replacement test standard
ISA 12.12.01 | Withdrawn | UL 121201 Nonincendive Electrical Equipment for Use in Class I and II, Division 2 and Class III, Divisions 1 and 2 Hazardous (Classified) Locations ¹.
UL 244A | Withdrawn | None
¹ Informational only—replacement standard is already in the NRTL's scope.

Table 5—Test Standards OSHA Is Removing From the Scope of Recognition of FM Approvals
Test standard removed | Reason for removal | Replacement test standard
ISA 12.12.01 | Withdrawn | UL 121201 Nonincendive Electrical Equipment for Use in Class I and II, Division 2 and Class III, Divisions 1 and 2 Hazardous (Classified) Locations ¹.
ISA 60079-0 | Withdrawn | None.
ISA 60079-1 | Withdrawn | None.
ISA 60079-6 | Withdrawn | None.
ISA 60079-7 | Withdrawn | None.
ISA 60079-11 | Withdrawn | None.
ISA 60079-15 | Withdrawn | None.
ISA 60079-25 | Withdrawn | None.
ISA 60079-28 | Withdrawn | None.
ISA 60079-31 | Withdrawn | None.
¹ Informational only—replacement standard is already in the NRTL's scope.

Table 6—Test Standards OSHA Is Removing From the Scope of Recognition of Intertek Testing Services NA, Inc.
Test standard removed | Reason for removal | Replacement test standard
ISA 12.12.01 | Withdrawn | UL 121201 Nonincendive Electrical Equipment for Use in Class I and II, Division 2 and Class III, Divisions 1 and 2 Hazardous (Classified) Locations ¹.
ISA 60079-0 | Withdrawn | None.
ISA 60079-1 | Withdrawn | None.
ISA 60079-6 | Withdrawn | None.
ISA 60079-7 | Withdrawn | None.
ISA 60079-11 | Withdrawn | None.
ISA 60079-15 | Withdrawn | None.
ISA 60079-25 | Withdrawn | None.
ISA 60079-28 | Withdrawn | None.
ISA 60079-31 | Withdrawn | None.
ISA 61241-0 | Withdrawn | None.
ISA 61241-1 | Withdrawn | None.
ISA 61241-11 | Withdrawn | None.
ISA 61241-18 | Withdrawn | None.
UL 244A | Withdrawn | None.
¹ Informational only—replacement standard is already in the NRTL's scope.

Table 7—Test Standards OSHA Is Removing From the Scope of Recognition of SGS North America, Inc.
Test standard removed | Reason for removal | Replacement test standard
ISA 12.12.01 | Withdrawn | UL 121201 Nonincendive Electrical Equipment for Use in Class I and II, Division 2 and Class III, Divisions 1 and 2 Hazardous (Classified) Locations ¹.
ISA 60079-0 | Withdrawn | None.
ISA 60079-1 | Withdrawn | None.
ISA 60079-6 | Withdrawn | None.
ISA 60079-7 | Withdrawn | None.
ISA 60079-11 | Withdrawn | None.
ISA 60079-15 | Withdrawn | None.
ISA 60079-25 | Withdrawn | None.
ISA 60079-28 | Withdrawn | None.
ISA 60079-31 | Withdrawn | None.
ISA 61241-0 | Withdrawn | None.
ISA 61241-1 | Withdrawn | None.
ISA 61241-11 | Withdrawn | None.
ISA 61241-18 | Withdrawn | None.
UL 244A | Withdrawn | None.
¹ Informational only—replacement standard is already in the NRTL's scope.

Table 8—Test Standard OSHA Is Removing From the Scope of Recognition of TUV Rheinland of North America, Inc.
Test standard removed | Reason for removal | Replacement test standard
UL 244A | Withdrawn | None.

Table 9—Test Standards OSHA Is Removing From the Scope of Recognition of UL LLC
Test standard removed | Reason for removal | Replacement test standard
ISA 12.12.01 | Withdrawn | UL 121201 Nonincendive Electrical Equipment for Use in Class I and II, Division 2 and Class III, Divisions 1 and 2 Hazardous (Classified) Locations ¹.
ISA 60079-0 | Withdrawn | None.
ISA 60079-1 | Withdrawn | None.
ISA 60079-6 | Withdrawn | None.
ISA 60079-7 | Withdrawn | None.
ISA 60079-11 | Withdrawn | None.
ISA 60079-15 | Withdrawn | None.
ISA 60079-28 | Withdrawn | None.
ISA 60079-31 | Withdrawn | None.
ISA 61241-0 | Withdrawn | None.
ISA 61241-1 | Withdrawn | None.
ISA 61241-2 | Withdrawn | None.
ISA 61241-11 | Withdrawn | None.
ISA 61241-18 | Withdrawn | None.
ISA 60079-25 | Withdrawn | None.
UL 244A | Withdrawn | None.
¹ Informational only—replacement standard is already in the NRTL's scope.

OSHA will place on its informational web pages the modifications to each NRTL's scope of recognition. These web pages detail the scope of recognition for each NRTL, including the test standards the NRTL may use to test and certify products under OSHA's NRTL Program. The agency will also add to the “Standards No Longer Recognized” web page those test standards that OSHA no longer recognizes or permits under the NRTL Program. Access to these web pages is available at http://www.osha.gov/dts/otpca/nrtl/index.html.

V. Authority and Signature

Amanda Laihow, Principal Deputy Assistant Secretary of Labor for Occupational Safety and Health, authorized the preparation of this notice. Accordingly, the agency is issuing this notice pursuant to 29 U.S.C. 657(g)(2), Secretary of Labor's Order No. 7-2025 (90 FR 27878, June 30, 2025), and 29 CFR 1910.7.

Signed at Washington, DC, on January 27, 2026.
Amanda Laihow,
Principal Deputy Assistant Secretary of Labor for Occupational Safety and Health.

[FR Doc. 2026-02153 Filed 2-2-26; 8:45 am]

BILLING CODE 4510-26-P